DEPARTMENT OF COMMERCE

International Trade Administration

[A-570-849]

Certain Cut-to-Length Carbon Steel Plate From the People's Republic of China: Final Results of Administrative Review; 2012-2013

AGENCY: Enforcement and Compliance, International Trade Administration, Department of Commerce.

SUMMARY: On November 21, 2014, the Department of Commerce (the “Department”) published the preliminary results and partial rescission of the 2012-2013 administrative review of the antidumping duty order on certain cut-to-length carbon steel plate (“CTL plate”) from the People's Republic of China (“PRC”), in accordance with section 751(a)(1)(B) of the Tariff Act of 1930, as amended (“the Act”).¹ The period of review (“POR”) is November 1, 2012, through October 31, 2013. This review covers two PRC companies: Hunan Valin Xiangtan Iron & Steel Co., Ltd. (“Hunan Valin”), and Zhengzhou Shangdao Iron & Steel Co. (“Zhengzhou Shangdao”). The Department invited interested parties to comment on the Preliminary Results. No parties commented. Accordingly, our final results remain unchanged from the Preliminary Results.

¹ See Certain Cut-to-Length Carbon Steel Plate From the People's Republic of China: Preliminary Results of Antidumping Administrative Review; 2012-2013, 79 FR 69425 (November 21, 2014) (“Preliminary Results”).

DATES: Effective Date: March 16, 2015.

FOR FURTHER INFORMATION CONTACT: Patrick O'Connor, AD/CVD Operations, Office IV, Enforcement and Compliance, International Trade Administration, U.S. Department of Commerce, 14th Street and Constitution Avenue NW., Washington, DC 20230; telephone: (202) 482-0989.

SUPPLEMENTARY INFORMATION:

Background

On November 21, 2014, the Department published the Preliminary Results. We invited interested parties to submit comments on the Preliminary Results, but no comments were received.

Scope of the Order

The product covered by the order is certain cut-to-length carbon steel plate from the PRC. Included in this description is hot-rolled iron and non-alloy steel universal mill plates (i.e., flat-rolled products rolled on four faces or in a closed box pass, of a width exceeding 150 millimeters (“mm”) but not exceeding 1250 mm and of a thickness of not less than 4 mm, not in coils and without patterns of relief), of rectangular shape, neither clad, plated nor coated with metal, whether or not painted, varnished, or coated with plastics or other nonmetallic substances; and certain iron and non-alloy steel flat-rolled products not in coils, of rectangular shape, hot-rolled, neither clad, plated nor coated with metal, whether or not painted, varnished, or covered with plastics or other nonmetallic substances, 4.75 mm or more in thickness and of a width which exceeds 150mm and measures at least twice the thickness. Included as subject merchandise in this order are flat-rolled products of nonrectangular cross-section where such cross-section is achieved subsequent to the rolling process (i.e., products which have been “worked after rolling”)—for example, products which have been beveled or rounded at the edges. This merchandise is currently classified in the Harmonized Tariff Schedule of the United States (“HTSUS”) under item numbers 7208.40.3030, 7208.40.3060, 7208.51.0030, 7208.51.0045, 7208.51.0060, 7208.52.0000, 7208.53.0000, 7208.90.0000, 7210.70.3000, 7212.40.5000, and 7212.50.0000. Although the HTSUS subheadings are provided for convenience and customs purposes, the written description of the scope of the order is dispositive. Specifically excluded from subject merchandise within the scope of the order is grade X-70 steel plate.

Final Determination of No Shipments

In the Preliminary Results, we determined that Hunan Valin did not have any reviewable transactions during the POR because Hunan Valin submitted a timely-filed certification that it had no shipments of subject merchandise during the POR and U.S. import data did not show any POR entries of Hunan Valin's subject merchandise.² We did not receive information from U.S. Customs and Border Protection (“CBP”) indicating that there were reviewable transactions for Hunan Valin during the POR. Consistent with the Department's assessment practice in non-market economy (“NME”) cases, we stated in the Preliminary Results that the Department would not rescind the review in these circumstances but, rather, would complete the review with respect to Hunan Valin and issue appropriate instructions to CBP based on the final results of the review.³ As stated above, we did not receive any comments on our Preliminary Results. In these final results, we continue to determine that Hunan Valin had no reviewable transactions of subject merchandise during the POR.

² See Preliminary Results, and accompanying Decision Memorandum, at 3.

³ See Non-Market Economy Antidumping Proceedings: Assessment of Antidumping Duties, 76 FR 65694 (October 24, 2011) (“Assessment Practice Refinement”); see also the “Assessment” section of this notice, below.

Treatment of Zhengzhou Shangdao

In the Preliminary Results, we determined that because Zhengzhou Shangdao did not respond to the questionnaire and did not provide separate rate information, it did not establish its eligibility for separate rate status and is part of the PRC-wide entity.⁴ The Department then preliminarily determined that it had to rely on facts otherwise available to assign a dumping margin to the PRC-wide entity in accordance with sections 776(a)(1), 776(a)(2)(A), and 776(a)(2)(C) of the Act, because necessary information was not on the record, the PRC-wide entity (Zhengzhou Shangdao) had withheld information that was requested of it, and, by not providing requested information, the entity had significantly impeded the proceeding. We further preliminarily found that Zhengzhou Shangdao's failure to provide the requested information constituted circumstances under which the company and, hence, the PRC-wide entity, had not acted to the best of its ability to comply with the Department's request for information. We therefore preliminarily determined, pursuant to section 776(b) of the Act, that the PRC-wide entity failed to cooperate by not acting to the best of its ability and that, accordingly, when selecting from among the facts otherwise available, an adverse inference was warranted with respect to the PRC-wide entity.

⁴ See Preliminary Results, and accompanying Decision Memorandum, at 3-4.

Therefore, for these final results, the Department finds that Zhengzhou Shangdao is part of the PRC-wide entity and that the use of adverse facts available is warranted with respect to the PRC-wide entity.

Final Results of Review

The Department determines that the following weighted-average dumping margin exists for the period November 1, 2012, through October 31, 2013:

Exporter | Weighted- average dumping margin (percent)
PRC-wide entity ⁵ | 128.59

⁵ The PRC-wide entity includes Zhengzhou Shangdao Iron & Steel Co.

Assessment

The Department will determine, and CBP shall assess, antidumping duties on all appropriate entries covered by this review.⁶ The Department intends to issue assessment instructions to CBP 15 days after the date of publication of these final results of review. The Department intends to instruct CBP to liquidate entries of subject merchandise from Zhengzhou Shangdao at the PRC-wide rate of 128.59 percent. Additionally, consistent with the Department's assessment practice refinement in NME cases, because the Department determined that Hunan Valin had no reviewable transactions of subject merchandise during the POR, any suspended entries that entered under Hunan Valin's antidumping duty case number (i.e., at that exporter's rate) will be liquidated at the PRC-wide rate.⁷

⁶ See 19 CFR 351.212(b)(1).

⁷ See Assessment Practice Refinement.

Cash Deposit Requirements

The following cash deposit requirements will be effective upon publication of the final results of this administrative review for all shipments of the subject merchandise from the PRC entered, or withdrawn from warehouse, for consumption on or after the publication date, as provided by section 751(a)(2)(C) of the Act: (1) For Hunan Valin, which claimed no shipments, the cash deposit rate will remain unchanged from the rate assigned to this company in the most recently completed review of the company; (2) for previously investigated or reviewed PRC and non-PRC exporters which are not under review in this segment of the proceeding but which have separate rates, the cash deposit rate will continue to be the exporter-specific rate published for the most recent period; (3) for all PRC exporters of subject merchandise that have not been found to be entitled to a separate rate, including Zhengzhou Shangdao, the cash deposit rate will be the PRC-wide rate of 128.59 percent; and (4) for all non-PRC exporters of subject merchandise which have not received their own rate, the cash deposit rate will be the rate applicable to the PRC exporter(s) that supplied that non-PRC exporter. These deposit requirements, when imposed, shall remain in effect until further notice.

Notification to Importers Regarding the Reimbursement of Duties

This notice serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of doubled antidumping duties.

Notification to Interested Parties

This notice also serves as a reminder to parties subject to the administrative protective order (“APO”) of their responsibility concerning the disposition of proprietary information disclosed under APO in accordance with 19 CFR 351.305(a)(3). Timely notification of the destruction of APO materials or conversion to judicial protective order is hereby requested. Failure to comply with the regulations and the terms of an APO is a sanctionable violation.

We are issuing and publishing these results and this notice in accordance with sections 751(a)(1) and 777(i) of the Act.

Dated: March 9, 2015.
Ronald K. Lorentzen,
Acting Assistant Secretary for Enforcement and Compliance.

[FR Doc. 2015-05959 Filed 3-13-15; 8:45 am]

BILLING CODE 3510-DS-P